NUCLEAR REGULATORY COMMISSION

[Docket No. 72-11]

Sacramento Municipal Utility District; Rancho Seco Independent Spent Fuel Storage Installation; Issuance of Environmental Assessment and Finding of No Significant Impact Regarding a Proposed Exemption and Conforming Amendment

AGENCY: Nuclear Regulatory Commission.

ACTION: Environmental assessment.

FOR FURTHER INFORMATION CONTACT: Amy M. Snyder, Project Manager, Spent Fuel Project Office, Office of Nuclear Material Safety and Safeguards, U.S. Nuclear Regulatory Commission, Washington, DC 20555. Telephone: (301) 415-8580; fax number: (301) 425-8555; e-mail: ams3@nrc.gov.

SUPPLEMENTARY INFORMATION: The U.S. Nuclear Regulatory Commission (NRC) is considering issuance of an exemption, pursuant to 10 CFR 72.7, from the provisions of 10 CFR 72.44(d)(3), to the Sacramento Municipal Utility District (SMUD or the licensee). The requested exemption (in conjunction with a conforming license amendment) would relieve SMUD from the requirement to submit an annual radioactive effluent report for the Rancho Seco Independent Spent Fuel Storage Installation (ISFSI). SMUD submitted the exemption request by letter dated July 19, 2004, in which it also requested an amendment to the Rancho Seco ISFSI license; specifically, the deletion of Technical Specification 5.5.2., Radiological Environmental Monitoring Program, item (d). The licensee is currently storing spent nuclear fuel at the Rancho Seco ISFSI on the site of the decommissioned Rancho Seco Nuclear Generating Station in Sacramento County, California.

Environmental Assessment (EA)

Identification of Proposed Action: SMUD has requested both an exemption and a conforming license amendment to obtain relief from the requirement to submit an annual radioactive effluent report for the Rancho Seco ISFSI. According to 10 CFR 72.44(d), each 10 CFR part 72 license must include technical specifications regarding radioactive effluents. Specifically, 10 CFR 72.44(d)(3) requires that an annual report be submitted to the NRC, specifying the quantity of each of the principal radionuclides released to the environment in liquid and in gaseous effluents during the previous 12 months of ISFSI operation. In addition to the regulation itself, the Rancho Seco ISFSI Technical Specifications (Appendix to License No. SNM-2510), section 5.5.2, Radiological Environmental Monitoring Program, item d., requires an annual report to be submitted pursuant to 10 CFR 72.44(d)(3).

The proposed action before the NRC is whether to grant the exemption and conforming amendment.

Need for the Proposed Action: The requirements of 10 CFR 72.44(d)(3) and Rancho Seco ISFSI Technical Specification 5.5.2.d. impose certain regulatory obligations, with associated costs, on the licensee. In its Safety Evaluation Report related to the ISFSI license, the staff found that there are no credible scenarios by which liquid or gaseous effluents could be released from the dry shielded canister. The licensee further stated that any concerns over small quantities of gaseous or liquid effluent that may be produced during cask loading and transfer decontamination activities are no longer relevant, since all the spent fuel has been transferred to the ISFSI, and that the NUHOMS-24P dry cask storage system used at the Rancho Seco ISFSI is a passive system which, by design, produces no gaseous or liquid effluent.

Granting the requested exemption and approving the conforming amendment will relieve the licensee from the requirement to submit an annual radioactive effluent report pursuant to 10 CFR 72.44(d)(3). The requirement to submit an annual radioactive effluent monitoring report is not needed for this facility in its current configuration and is an unnecessary administrative burden. Thus, the licensee would not have to incur the costs associated with preparing and submitting an annual ISFSI radioactive effluent report.

Environmental Impacts of the Proposed Action: The NRC has reviewed the exemption request submitted by the licensee and determined that not requiring the licensee to submit an annual report pursuant to 10 CFR 72.44(d)(3) is an administrative change and would have no significant impacts to the environment.

Further, NRC has evaluated the impact to public safety that would result in granting the requested exemption. NRC determined that not requiring the licensee to submit an annual report specifying principal radionuclides released to the environment in liquid and in gaseous effluents does not impact pubic safety because the design basis for the Rancho Seco ISFSI is such that it is a passive system that generates no effluents during fuel storage. Thus, there should be no releases to the environment of either liquid or gaseous effluents from normal operations of the Rancho Seco ISFSI.

The proposed actions would not increase the probability or consequences of accidents, no changes would be made to the types of effluents that may be released offsite, and there would be no increase in occupational or public radiation exposure. Therefore, there are no significant radiological environmental impacts associated with the proposed action. Additionally, the proposed action would have no significant non-radiological impacts.

Alternative to the Proposed Action: As an alternative to the proposed action, the staff considered denial of the exemption and conforming amendment requests (i.e., the “no-action” alternative). Approval or denial of the exemption and conforming amendment requests would result in no change in the environmental impacts. Therefore, the environmental impacts of the proposed action and the alternative action are similar.

Agencies and Persons Consulted: The NRC staff prepared this environmental assessment (EA); no other sources were used. On September 28, 2004, the staff contacted Mr. Steven Hsu of the California Department of Health Services, Radiologic Health Branch, and subsequently provided him a draft copy of this EA for review. The State of California responded to the NRC by e-mail on October 1, 2004, and stated it had no comments at this time on the EA or the Finding of No Significant Impact. The NRC staff has determined that consultation under Section 7 of the Endangered Species Act is not required for this specific exemption, which involves an administrative change and will not affect listed species or critical habitat. The NRC staff has also determined that the proposed action is not a type of activity having the potential to cause effects on historic properties. Therefore, no consultation is required under Section 106 of the National Historic Preservation Act.

Conclusions: The staff has reviewed the exemption and conforming amendment requests submitted by SMUD and has determined that relieving the licensee from the requirement to submit an annual radioactive effluent report pursuant to 10 CFR 72.44(d)(3) and the Rancho Seco ISFSI Technical Specifications is an administrative change, and would have no significant impact on the environment.

Finding of No Significant Impact

The environmental impacts of the proposed action have been reviewed in accordance with the requirements set forth in 10 CFR Part 51. Based upon the foregoing EA, the NRC finds that the proposed action of granting the exemption and approving the conforming amendment to the license will not significantly impact the quality of the human environment. Accordingly, the NRC has determined that an environmental impact statement for the proposed exemption and conforming amendment is not warranted.

The request for the exemption and amendment was docketed under 10 CFR Part 72, Docket 72-11. For further details with respect to this action, see the request for the exemption and proposed license amendment dated July 19, 2004. The NRC maintains an Agencywide Documents Access Management System (ADAMS), which provides text and image files of NRC's public documents. However, as of October 25, 2004, the NRC initiated an additional security review of publicly available documents to ensure that potentially sensitive information is removed from the ADAMS database accessible through the NRC's Web site. Interested members of the public should check the NRC's Web pages for updates on the availability of documents through the ADAMS system. When public availability is restored, these documents may be accessed through the NRC's Public Electronic Reading Room on the Internet at: http://www.nrc.gov/reading-rm/adams.html. After resumption of public access to ADAMS, copies of the referenced documents will also be available for review at the NRC Public Document Room (PDR), located at 11555 Rockville Pike, Rockville, MD 20852. PDR reference staff can be contacted at 1-800-397-4209, 301-415-4737 or by e-mail to pdr@nrc.gov. The PDR reproduction contractor will copy documents for a fee.

Dated at Rockville, Maryland, this 3rd day of January, 2005.
For the Nuclear Regulatory Commission.
Amy M. Snyder,
Project Manager, Spent Fuel Project Office, Office of Nuclear Material Safety and Safeguards.

[FR Doc. 05-479 Filed 1-10-05; 8:45 am]

BILLING CODE 7590-01-P